DEPARTMENT OF COMMERCE

Foreign-Trade Zones Board

[B-49-2025]

Foreign-Trade Zone (FTZ) 075 Notification of Proposed Production Activity; Catalina Components Inc.; (Vehicle Parts); Chandler, Arizona

Catalina Components Inc. (Catalina) submitted a notification of proposed production activity to the FTZ Board (the Board) for its facilities in Chandler, Arizona within FTZ 75. The notification conforming to the requirements of the Board's regulations (15 CFR 400.22) was received on December 4, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: pressure relief vent (PRV) flaps for motor vehicles (duty rate is 2.9%).

The proposed foreign-status materials/components include: EPDM rubber (ethylene propylene diene monomer rubber) (duty-free). The request indicates that certain materials/components are subject to duties under section 1702(a)(1)(B) of the International Emergency Economic Powers Act (section 1702), depending on the country of origin. The applicable section 1702 decisions require subject merchandise to be admitted to FTZs in privileged foreign status (19 CFR 146.41).

Public comment is invited from interested parties. Submissions shall be addressed to the Board's Executive Secretary and sent to: ftz@trade.gov. The closing period for their receipt is January 20, 2026.

A copy of the notification will be available for public inspection in the “Online FTZ Information System” section of the Board's website.

For further information, contact John Frye at John.Frye@trade.gov.

Dated: December 5, 2025.
Elizabeth Whiteman,
Executive Secretary.

[FR Doc. 2025-22491 Filed 12-10-25; 8:45 am]

BILLING CODE 3510-DS-P